SMALL BUSINESS ADMINISTRATION

Region V—Minnesota District Advisory Council Public Meeting

The Small Business Administration Region V Minnesota District Advisory Council, located in the geographical area of Minneapolis, Minnesota, will hold a public meeting at 11:30 a.m. central time on Friday, February 8, 2002, at Maria's Café, 1113 Franklin Avenue East, Minneapolis, MN 55404, to discuss such matters as may be presented by members, staff of the Small Business Administration, or others present.

Anyone wishing to make an oral presentation to the Board must contact Edward A. Daum, District Director, in writing by letter or fax no later than February 7, 2002, in order to be put on the agenda. Edward A. Daum, District Director, U.S. Small Business Administration, 100 N. 6th Street, Suite 210-C, Minneapolis, MN 55403, (612) 370-2306 phone (612) 370-2303 fax.

Steve Tupper,
Committee Management Officer.

[FR Doc. 02-1046 Filed 1-15-02; 8:45 am]

BILLING CODE 8025-01-P